FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202) 523-5793 or tradeanalysis@fmc.gov.

Agreement No.: 012057-009.

Title: CMA CGM/Maersk Line Space Charter, Sailing and Cooperative Working Agreement Asia to USEC and PNW-Suez/PNW & Panama Loops.

Parties: A.P. Moller-Maersk A/S and CMA CGM S.A.

Filing Party: Mark J. Fink, Esq.; Cozen O'Connor; 1627 I Street NW., Suite 1100; Washington, DC 20006.

Synopsis: The amendment would adjust the number of vessels to be provided, increase the size of those vessels, and adjust the space allocations of the parties accordingly.

Agreement No.: 012116-002.

Title: NYK/Hanjin/Yang Ming/Evergreen Americas North South Service Vessel Sharing Agreement.

Parties: Evergreen Line Joint Service Agreement; Hanjin Shipping Co., Ltd; Nippon Yusen Kaisha; and Yang Ming Marine Transport Corp.

Filing Party: Jacob K. Lee; NYK Line (North America) Inc.; 300 Lighting Way, 5th Floor; Secaucus, NJ 07094.

Synopsis: The amendment adds Yang Ming Marine Transport Corp. and removes Hyundai Merchant Marine Co., Ltd from the agreement.

Agreement No.: 012199.

Title: NYK/Hanjin/Hyundai Americas North South Service Slot Charter Agreement.

Parties: Nippon Yusen Kaisha; Hanjin Shipping Co., Ltd.; and Hyundai Merchant Marine Co., Ltd.

Filing Party: Jacob K. Lee; NYK Line (North America) Inc.; 300 Lighting Way, 5th Floor; Secaucus, NJ 07094.

Synopsis: The agreement authorizes NYK and Hanjin to charter slots to Hyundai on the ANS service in the trade between the East Coast of North America (New York to Florida range) and the East Coast of Brazil.

Agreement No.: 012200.

Title: The G6/Zim Transpacific Vessel Sharing Agreement.

Parties: American President Lines, Ltd. and APL Co. Pte, Ltd. (Operating as one Party); Hapag-Lloyd AG; Hyundai Merchant Marine Co., Ltd.; Mitsui O.S.K. Lines, Ltd.; Nippon Yusen Kaisha; and Orient Overseas Container Line, Limited.; and Zim Integrated Shipping Services Limited.

Filing Party: David F. Smith, Esq.; Cozen O'Connor; 1627 I Street NW., Suite 1100; Washington, DC 20006.

Synopsis: The agreement authorizes the parties to share vessels in the trade between ports in North Asia, South Asia, Middle East (including the Persian Gulf region), Spain, Italy, Egypt, Panama, Jamaica, and Canada, on the one hand, and U.S. East Coast ports via the Panama and Suez canals, on the other hand, as well as ports and points served via such U.S. and foreign ports.

Agreement No.: 012201.

Title: WWL/K-Line Space Charter Agreement.

Parties: Wallenius Wilhelmsen Logistics AS and Kawasaki Kisen Kaisha, Ltd.

Filing Party: John P. Meade, Esq.; General Counsel; K- Line America, Inc.; 6009 Bethlehem Road, Preston, MD 21655.

Synopsis: The agreement authorizes K-Line to charter space on WWL vessels in the trade between the U.S. East Coast and China.

Agreement No.: 012202.

Title: The G6/ELJSA Slot Exchange Agreement.

Parties: American President Lines, Ltd. and APL Co. Pte, Ltd. (Operating as one Party); Hapag-Lloyd AG; Hyundai Merchant Marine Co., Ltd.; Mitsui O.S.K. Lines, Ltd.; Nippon Yusen Kaisha; Orient Overseas Container Line, Limited.; and Evergreen Line Joint Service Agreement.

Filing Party: David F. Smith, Esq.; Cozen O'Connor; 1627 I Street NW., Suite 1100; Washington, DC 20006.

Synopsis: The agreement authorizes the parties to exchange slots in the trade between Vietnam, China (including Hong Kong), Singapore, Spain, and Sri Lanka, on the one hand, and the U.S. Atlantic Coast, on the other hand.

Agreement No.: 012203.

Title: The HMM/HLAG Slot Exchange Agreement.

Parties: Hyundai Merchant Marine Co., Ltd. and Hapag-Lloyd Aktiengesellschaft.

Filing Party: David F. Smith, Esq.; Cozen O'Connor; 1627 I Street NW., Suite 1100; Washington, DC 20006.

Synopsis: The agreement authorizes Hyundai to charter space to Hapag-Lloyd in the trade between the U.S. West Coast on the one hand, and China and South Korea, on the other hand. The agreement also authorizes the parties to enter into arrangements related to the chartering of such space.

By Order of the Federal Maritime Commission.
Dated: April 5, 2013.
Karen V. Gregory,
Secretary.

[FR Doc. 2013-08384 Filed 4-9-13; 8:45 am]

BILLING CODE P